DEPARTMENT OF HEALTH AND HUMAN SERVICES

Substance Abuse and Mental Health Services Administration

Fiscal Year (FY) 2005 Funding Opportunity

AGENCY: Center for Mental Health Services, Substance Abuse and Mental Health Services Administration, HHS.

ACTION: Notice of intent to make supplemental Minority Fellowship Program awards to the American Nurses Association (ANA), the American Psychiatric Association (ApA), the American Psychological Association (APA), and the Council on Social Work Education (CSWE).

SUMMARY: This notice is to inform the public that the Substance Abuse and Mental Health Services Administration (SAMHSA), Center for Mental Health Services (CMHS), intends to make awards for up to two years to the American Nurses Association (ANA), the American Psychiatric Association (ApA), the American Psychological Association (APA), and the Council on Social Work Education (CSWE). The total funding available for these awards is $630,000. This is not a formal request for applications. Assistance will be provided only to the aforementioned organizations based on the receipt of satisfactory applications that are approved by an independent review group.

Funding Opportunity Title: SM-05-018.

Catalog of Federal Domestic Assistance (CFDA) Number: 93.243.

Authority: Sections 509, 516 and 520A of the Public Health Service Act, as amended.

Justification: SAMHSA's Center for Mental Health Services (CMHS) intends to award supplemental grants to the American Nurses Association (ANA), the American Psychiatric Association (ApA), the American Psychological Association (APA), and the Council on Social Work Education (CSWE) to expand/enhance grant activities funded under the Minority Fellowship Program (MFP) grant announcement (SM-04-001). The goal of the MFP program is to facilitate entry of ethnic minority students into mental health and substance abuse disorders careers and to increase the number of psychology, psychiatry, nursing and social work professionals trained to teach, administer, conduct services research, and provide direct mental health/substance abuse services to ethnic minority populations. The lack of trained ethnic minority professionals is considered to be a significant factor in the lack of access to utilization of minority communities to appropriate behavioral health and substance abuse treatment and prevention services. The amount of funds provided is not sufficient to meet the demand for stipends to qualified individuals. These supplemental awards will increase the number of ethnic minority students provided stipends. Eligibility for this funding is limited to the four organizations that received funding under the Minority Fellowship Program in FY 2004 because these four organizations currently have in place the necessary infrastructure for the outreach, recruitment, processing and monitoring of applications from students. This infrastructure allows the supplemental funds to be used primarily for stipends. Thus, this limitation is the most cost-effective approach for maximizing the number of racial and ethnic minority students who receive stipends for training in underserved disciplines.

FOR FURTHER INFORMATION CONTACT: Paul Wohlford, Ph.D., Substance Abuse and Mental Health Services Administration, CMHS, 1 Choke Cherry Road, Room 2-1113, Rockville, MD 20857; telephone: (240) 276-1759; E-mail: paul.wohlford@samhsa.hhs.gov; or Herbert Joseph, Ph.D., Substance Abuse and Mental Health Services Administration, CMHS, 1 Choke Cherry Road, Room 2-1120, Rockville, MD 20857; telephone: (240) 276-1742; E-mail: herbert.joseph@samhsa.hhs.gov.

Dated: April 1, 2005.
Daryl Kade,
Director, Office of Policy, Planning and Budget, Substance Abuse and Mental Health Services Administration.

[FR Doc. 05-7003 Filed 4-7-05; 8:45 am]

BILLING CODE 4162-20-P